DEPARTMENT OF COMMERCE

International Trade Administration

[A-570-881]

Certain Malleable Cast Iron Pipe Fittings From the People's Republic of China: Final Results of the Expedited Fourth Sunset Review of the Antidumping Duty Order

AGENCY: Enforcement and Compliance, International Trade Administration, Department of Commerce.

SUMMARY: As a result of this expedited sunset review, the U.S. Department of Commerce (Commerce) finds that revocation of the antidumping duty (AD) order on certain malleable cast iron pipe fittings (malleable pipe fittings) from the People's Republic of China (China) would be likely to lead to the continuation or recurrence of dumping at the levels indicated in the “Final Results of Sunset Review” section of this notice.

DATES: Applicable March 7, 2025.

FOR FURTHER INFORMATION CONTACT: Elizabeth Whiteman, Trade Agreements Policy and Negotiations, Enforcement and Compliance, International Trade Administration, U.S. Department of Commerce, 1401 Constitution Avenue NW, Washington, DC 20230; telephone: (202) 482-0473.

SUPPLEMENTARY INFORMATION:

Background

On December 12, 2003, Commerce published in the Federal Register the AD order on malleable pipe fittings from China.¹ On November 4, 2024, Commerce published the notice of initiation of the fourth sunset review of the Order, pursuant to section 751(c)(2) of the Tariff Act of 1930, as amended (the Act).²

¹ See Antidumping Duty Order: Certain Malleable Iron Pipe Fittings from the People's Republic of China, 68 FR 69376 (December 12, 2003) (Order).

² See Initiation of Five-Year (Sunset) Reviews, 89 FR 87543 (November 4, 2024).

On November 12, 2024, Commerce received notice of intent to participate in this review from ASC Engineered Solutions, LLC and Ward Manufacturing, LLC (collectively, the domestic interested parties), within the deadline specified in 19 CFR 351.218(d)(1)).³ The domestic interested parties claimed interested party status under section 771(9)(C) of the Act as producers of the domestic like product in the United States.⁴ On November 27, 2024, Commerce received an adequate substantive response from the domestic industry parties within the 30-day deadline specified in 19 CFR 351.218(d)(3)(i).⁵ We received no substantive responses from respondent interested parties.

³ See Domestic Interested Parties' Letter, “Five-Year (“Sunset”) Review of Antidumping Duty Order On Certain Malleable Iron Pipe Fittings from the People's Republic of China: Domestic Interested Party Notice of Intent to Participate,” dated November 12, 2024.

⁴ Id.

⁵ See Domestic Interested Parties' Letter, “Five-Year (“Sunset”) Review of Antidumping Duty Order On Certain Malleable Iron Pipe Fittings from the People's Republic of China: Domestic Industry Parties Substantive Response,” dated November 27, 2024.

On December 26, 2024, Commerce notified the U.S. International Trade Commission that it did not receive substantive responses from any respondent interested parties.⁶ As a result, pursuant to section 751(c)(3)(B) of the Act and 19 CFR 351.218(e)(1)(ii)(C)(2), Commerce conducted an expedited (120-day) sunset review of the Order.

⁶ See Commerce's Letter, “Sunset Reviews Initiated on November 4, 2024,” dated December 26, 2024.

Scope of the Order

The products covered by this Order are malleable pipe fittings from China. For a full description of the scope of the Order, see the Issues and Decision Memorandum.⁷

⁷ See Memorandum, “Issues and Decision Memorandum for the Final Results of the Expedited Fourth Sunset Review of the Antidumping Duty Order on Certain Malleable Cast Iron Pipe Fittings from the People's Republic of China,” dated concurrently with, and hereby adopted by, this notice (Issues and Decision Memorandum).

Analysis of Comments Received

A complete discussion of all issues raised in this sunset review is contained in the Issues and Decision Memorandum.⁸ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be directly accessed at https://access.trade.gov/public/FRNoticesListLayout.aspx.

⁸ Id.

Final Results of Sunset Review

Pursuant to sections 751(c)(1), and 752(c)(1) and (3) of the Act, Commerce determines that revocation of the Order would be likely to lead to the continuation or recurrence of dumping and that the magnitude of dumping margins likely to prevail would be weighed-average dumping margins up to 111.36 percent.⁹

⁹ See Order.

Administrative Protective Order (APO)

This notice serves as the only reminder to interested parties subject to an APO of their responsibility concerning the return/destruction or conversion to judicial protective order of proprietary information disclosed under APO in accordance with 19 CFR 351.305(a). Timely notification of the return or destruction of APO materials or conversion to judicial protective order is hereby requested. Failure to comply with the regulations and terms of an APO is a violation which is subject to sanction.

Notification to Interested Parties

We are issuing and publishing these final results in accordance with sections 751(c), 752(c), and 777(i)(1) of the Act.

Dated: March 3, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margin of Dumping Likely to Prevail

VII. Final Results of Sunset Review

VIII. Recommendation

[FR Doc. 2025-03714 Filed 3-6-25; 8:45 am]

BILLING CODE 3510-DS-P